DEPARTMENT OF THE INTERIOR

Minerals Management Service

Notice of the Effect of Hurricane Katrina on the Minerals Management Service Internet Public Commenting System, Alternate Methods of Providing Comments

AGENCY: Minerals Management Service (MMS), Interior.

ACTION: Notice of alternate methods of commenting in the aftermath of Hurricane Katrina.

SUMMARY: This notice informs the public that Hurricane Katrina disrupted the Minerals Management Service's Internet-based public commenting system, which is hosted on computers in New Orleans, Louisiana. It advises the public of alternate methods they may use to comment on documents.

FOR FURTHER INFORMATION CONTACT: Bill Hauser (703-787-1613) or Kumkum Ray (703-787-1604).

SUPPLEMENTARY INFORMATION:

Background

Hurricane Katrina caused extensive and severe damage in the area of New Orleans, Louisiana. In the aftermath of the hurricane, damage to levees in New Orleans, Louisiana allowed water to flood the city and cause further damage.

Public Connect, the Internet-based public commenting system for the Minerals Management Service, is hosted on computers in the agency's offices located in New Orleans, Louisiana. The storm and aftermath disrupted this system. MMS employees are assessing the damage, but it is not known yet how long it will take to restore this system.

MMS currently has an open comment period for the following document published in the Federal Register.

On August 24, 2005, we published in the Federal Register a Request for Comments on the Preparation of a New 5-Year Outer Continental Shelf (OCS) Oil and Gas Leasing Program for 2007-2012; and on the Intent to Prepare an Environmental Impact Statement (EIS) for the Proposed 5-Year Program (70 FR 49669). This notice provided that the public could submit comments by mail or through the Internet. Because Public Connect is not available in the aftermath of Hurricane Katrina, all comments must be mailed to: Renee Orr, 5-Year Program Manager, Minerals Management Service (MS-4010), Room 3120, 381 Elden Street, Herndon, Virginia 20170.

MMS was able to receive comments that were submitted to Public Connect before Hurricane Katrina hit New Orleans, Louisiana on Monday, August 29. If you submitted a comment through Public Connect on or after Friday, August 26, you should re-submit the comment by mail to the address above to assure that we receive the comment.

Dated: September 14, 2005.
R.M. “Johnnie” Burton,
Director, Minerals Management Service.

[FR Doc. 05-19091 Filed 9-23-05; 8:45 am]

BILLING CODE 4310-MR-P